SMALL BUSINESS ADMINISTRATION

[License No. 01/01-0422]

New Canaan Funding Mezzanine V SBIC, LP; Surrender of License of Small Business Investment Company

Pursuant to the authority granted to the United States Small Business Administration under the Small Business Investment Act of 1958, as amended, (“Act”) under Section 309 of the Act and the Small Business Administration Rules and Regulations under 13 CFR 107.1900 to function as a small business investment company under the Small Business Investment Company License No. 01/01-0422 issued to New Canaan Funding Mezzanine V SBIC, LP, said license is hereby declared null and void.

Bailey DeVries,
Associate Administrator, Office of Investment and Innovation, United States Small Business Administration.

[FR Doc. 2023-22385 Filed 10-6-23; 8:45 am]

BILLING CODE P